FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012022.

Title: Discovery Cruise Line/Bernuth Lines Slot Charter Agreement.

Parties: Discovery Sun Partnership and Bernuth Lines, Ltd., Inc.

Filing Party: Glenn G. Kolk, Esq.; 520 Brickell Key Drive Suite 1606; Miami, FL 33131.

Synopsis: The agreement authorizes Discovery and Bernuth to charter space to each other between the U.S. Atlantic Coast and the Bahamas.

Agreement No.: 200163-002.

Title: Gulf Seaports Marine Terminal Conference.

Parties: Alabama State Docks Department, Greater Baton Rouge Port Commission, Port of Beaumont, Brownsville Navigation District, Port of Corpus Christi Authority, Port Freeport, Galveston Wharves, Port of Houston Authority, Lake Charles Harbor and Terminal District, Manatee County Port Authority, Mississippi State Port Authority, Port of New Orleans, Orange County Navigation and Port District, Panama City Port Authority, Port of Pascagoula, Port of Pensacola, Plaquemines Port, Port of Port Arthur, St. Bernard Port, South Louisiana Port Commission, and Tampa Port Authority.

Filing Party: John Roby, Chairman; Port of Beaumont; P.O. Drawer 2297; Beaumont, TX 77704.

Synopsis: The amendment adds Plaquemines Ports as a party to the conference and updates Port Freeport's name.

Agreement No.: 201176.

Title: License Agreement—Guam/Matson Navigation Co., Inc/Horizon Lines, Inc.

Parties: Horizon Lines, LLC; Matson Navigation Co.; and the Port Authority of Guam.

Filing Party: Matthew J. Thomas; Troutman Sanders LLP; 401 9th Street, NW., Ste. 1000; Washington, DC 20004-2134.

Synopsis: Under the terms of the agreement, the port authority grants Matson Navigation and Horizon Lines certain rights to install cranes at its facilities.

By order of the Federal Maritime Commission.
Dated: January 11, 2008.
Karen V. Gregory,
Assistant Secretary.

[FR Doc. E8-682 Filed 1-15-08; 8:45 am]

BILLING CODE 6730-01-P